FEDERAL ELECTION COMMISSION

Sunshine Act Notices Meeting

Date and Time: Thursday, December 14, 2006 at 10 a.m.

Place: 999 E Street, NW., Washington, DC (ninth floor).

Status: This meeting will be open to the public.

The following item has been added to the agenda: Purpose of Disbursement Policy Statement.

FOR FURTHER INFORMATION CONTACT: Mr. Robert Biersack, Press Officer, Telephone: (202) 694-1220.

Mary W. Dove,
Secretary of the Commission.

[FR Doc. 06-9721 Filed 12-12-06; 10:53 am]

BILLING CODE 6715-01-M